DEPARTMENT OF AGRICULTURE

Animal and Plant Health Inspection Service

9 CFR Parts 71, 77, 78, and 90

[Docket No. APHIS-2010-0125]

Secretary's Advisory Committee on Animal Health; Meeting

AGENCY: Animal and Plant Health Inspection Service, USDA.

ACTION: Notice of public meeting.

SUMMARY: This is a notice to inform the public of an upcoming meeting of the Secretary's Advisory Committee on Animal Health. The meeting is organized by the Animal and Plant Health Inspection Service to discuss matters of animal health.

DATES: The meeting will be held September 23, 2011, from noon to 5 p.m. (eastern daylight time).

ADDRESSES: The meeting will be conducted as a multisite teleconference. Opportunities for public attendance are described in the SUPPLEMENTARY INFORMATION section of this notice.

FOR FURTHER INFORMATION CONTACT: Mr. Michael R. Doerrer, Chief Operating Officer, Veterinary Services, APHIS, USDA, 4700 River Road Unit 37, Riverdale, MD 20737; (301) 734-5665; e-mail: SACAH.Management@aphis.usda.gov.

SUPPLEMENTARY INFORMATION: The Secretary's Advisory Committee on Animal Health (the Committee) advises the Secretary of Agriculture on matters of animal health, including means to prevent, conduct surveillance on, monitor, control, or eradicate animal diseases of national importance. In doing so, the Committee will consider public health, conservation of natural resources, and the stability of livestock economies.

During the September 23, 2011, meeting, which will be conducted as a multisite teleconference, the Committee will consider and discuss various aspects of the recently published proposed rule on traceability for livestock moving interstate. The Committee will also consider and discuss the bovine tuberculosis program, including possible wildlife surveillance requirements, test and remove management plans, and the issue of indemnity within the context of the new bovine tuberculosis/brucellosis framework that is being developed. Additional information, including the final agenda for the meeting, will be posted on the Committee's Web site at http://www.aphis.usda.gov/animal_health/acah/.

Public Participation

This meeting will be a multisite teleconference. Public attendees may join the call in “listen-only” mode. Members of the public who wish to listen in on the teleconference may do so by dialing 1-888-790-3291, followed by a public passcode, 1411045.

APHIS also plans to allow public access through Twitter during this teleconference. Questions and comments may be submitted for the Committee's consideration before the teleconference once the SACAH Twitter account has been established. The account name and instructions for participation via Twitter will be published on the SACAH Web site.

Questions and written comments may also be submitted up to 5 working days in advance of the teleconference. They can be sent via e-mail to SACAH.Management@aphis.usda.gov or mailed to the person listed under FOR FURTHER INFORMATION CONTACT at the beginning of this notice.

This notice of the meeting agenda is given pursuant to section 10 of the Federal Advisory Committee Act (5 U.S.C. App. 2).

Done in Washington, DC, this 8th day of September 2011.
Kevin Shea,
Acting Administrator, Animal and Plant Health Inspection Service.

[FR Doc. 2011-23727 Filed 9-15-11; 8:45 am]

BILLING CODE 3410-34-P